DEPARTMENT OF HEALTH AND HUMAN SERVICES

Centers for Medicare & Medicaid Services

[CMS-2274-CN]

RIN 0938-AP09

Medicaid Program; Fiscal Year Disproportionate Share Hospital Allotments and Disproportionate Share Hospital Institutions for Mental Disease Limits

AGENCY: Centers for Medicare & Medicaid Services (CMS), HHS.

ACTION: Correction of notice.

SUMMARY: This document corrects a technical error that appeared in the notice published in the Federal Register on December 19, 2008 entitled, “Medicaid Program; Fiscal Year Disproportionate Share Hospital Allotments and Disproportionate Share Hospital Institutions for Mental Disease Limits.”

DATES: Effective Date: This notice is effective on February 20, 2009.

FOR FURTHER INFORMATION CONTACT: Richard Strauss, (410) 786-2019.

SUPPLEMENTARY INFORMATION:

I. Background

In FR Doc. E8-30267 of December 19, 2008 (73 FR 77704), a technical error was identified and corrected in the Correction of Errors section below. The correction in this notice is effective as if it had been included in the document published December 19, 2008. Accordingly, the correction is effective on February 20, 2009.

II. Summary of Errors

As published on page 77712 of the December 19, 2008 Federal Register, Chart 2 Preliminary DSH Allotment For Fiscal Year 2009, we erroneously omitted Column J and Column K. This correction notice republishes that chart with all of the Columns A through K included.

III. Correction of Errors

In FR Doc. E8-30267 of December 19, 2008 (73 FR 77704), on page 77712, Chart 2—Preliminary DSH Allotment For Fiscal Year 2009, is being republished in its entirety. The revised chart reads as follows:

BILLING CODE 4000-01-P

BILLING CODE 4000-01-C

IV. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice.

Section 553(d) of the APA ordinarily requires a 30-day delay in effective date of final rules after the date of their publication in the Federal Register. This 30-day delay in effective date can be waived, however, if an agency finds for good cause that the delay is impracticable, unnecessary, or contrary to the public interest, and the agency incorporates a statement of the findings and its reasons in the rule issued. This notice merely corrects a typographical error. Therefore, we find good cause to waive the delay in the effective date.

This correction notice is being republished with the same effective date as if the correction contained herein was published in the Federal Register on December 19, 2008, the publication date of the previous notice which this notice corrects.

(Catalog of Federal Domestic Assistance Program No. 93.778, Medical Assistance Program)

Dated: January 16, 2009.
Ann C. Agnew,
Executive Secretary to the Department.

[FR Doc. E9-1535 Filed 1-23-09; 8:45 am]

BILLING CODE 4120-01-P